DEPARTMENT OF AGRICULTURE

Grain Inspection, Packers and Stockyards Administration

Designation for the Champaign-Danville, IL Area; Correction to Geographic Area for Champaign-Danville, IL Area

AGENCY: Grain Inspection, Packers and Stockyards Administration, USDA.

ACTION: Notice and correction.

SUMMARY: GIPSA is announcing the designation of Champaign-Danville Grain Inspection Department, Inc.'s (Champaign) to provide official services under the United States Grain Standards Act (USGSA), as amended.

In addition, this Notice corrects the Federal Register Notices published on September 13, 2012 and December 28, 2012 concerning the opportunity for designation in the Champaign area, which incorrectly omitted grain elevators located outside of Champaign's geographical area assigned to Champaign and grain elevators inside of Champaign's geographical area assigned to another official agency.

DATES: Effective Date: Designation effective as of April 1, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the December 28, 2012 Federal Register Notice (77 FR 76452), GIPSA requested applications for designation to provide official services in the geographic areas presently serviced by Champaign. Applications were due by January 28, 2013.

Champaign was the sole applicant for designation to provide official services in the area. As a result, GIPSA did not ask for additional comments.

GIPSA evaluated all available information regarding the designation criteria in section 79(f) of the USGSA (7 U.S.C. 79(f)) and determined that Champaign is qualified to provide official services in the geographic area specified in the Federal Register Notice published on December 28, 2012 and as corrected herein. This designation action to provide official services in these specified areas is effective as of April 1, 2013 and terminates on March 31, 2016.

Interested persons may obtain official services by contacting these agencies at the following telephone numbers:

Official agency | Headquarters location and telephone | Designation start | Designation end
Champaign | Urbana, IL, (217) 344-9306 | 4/1/2013 | 3/31/2016

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Correction: In the Federal Register Notice published on December 28, 2012 in FR Doc. 2012-76452, in the third column, the “Areas Open for Designation” “Champaign” paragraph is hereby corrected to include:

The following grain elevators are part of this geographic area assignment. In Decatur Grain Inspection, Inc.'s area: Okaw Cooperative, Cadwell, Moultrie County; ADM (3) elevators, Farmer City, Dewitt County; and Topflight Grain Company, Monticello, Piatt County, Illinois. In Central Illinois Grain Inspection, Inc.'s, area: East Lincoln Farmers Grain Co., Lincoln, Logan County, Illinois.

The following grain elevators are not part of this geographic area assignment and are assigned to: Titus Grain Inspection, Inc.: Boswell Chase Grain, Inc., Boswell, Benton County, Indiana.

Authority: 7 U.S.C. 71-87k.

Larry Mitchell,
Administrator, Grain Inspection, Packers and Stockyards Administration.

[FR Doc. 2013-17445 Filed 7-19-13; 8:45 am]

BILLING CODE 3410-KD-P